DEPARTMENT OF TRANSPORTATION

Federal Aviation Administration

RTCA Special Committee 205/EUROCAE Working Group 71: Software Considerations in Aeronautical Systems Second Joint Plenary Meeting

AGENCY: Federal Aviation Administration (FAA), DOT.

ACTION: Notice of RTCA Special Committee 205/EUROCAE Working Group 71 meeting.

SUMMARY: The FAA is issuing this notice to advise the public of a meeting of RTCA Special Committee 205/EUROCAE Working Group 71: Software Considerations in Aeronautical Systems.

DATES: The meeting will be held April 24-28, 2006 starting at 8:30 a.m.

ADDRESSES: The meeting will be held at The Boeing Company, 3855 Lakewood Blvd, Long Beach, California 90808.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 205/EUROCAE Working Group 71 meeting.

Note: On arrival at Boeing please have photo identification available (either a passport, a drivers license bearing a photograph or an identity card) to assist in your badge being issued.

• April 24:

• Sub-group Meetings—Times per sub-group leaders

• New Member Orientation

• Committee Operations Tutorial

• Web site Tutorial

• April 25:

• Registration

• Opening Plenary Session (Welcome and Introductory Remarks, Review/Accept Meeting Agenda and of Previous Minutes)

• Discussion of Terms of Reference (TOR)-13 Method of Accomplishment

• Report of Sub-Group Activities

• Other Committee/Other Documents Interfacing Personnel Reports

• Sub-group leaders to identify any common SG issues and chairs to identify the lead SG to coordinate the resolution.

• Invited Guest Speaker—if scheduled

• Review Committee Text Approval Process

• Sub-Group Break Out Sessions

• April 26:

• Executive Committee and SC Chairs/Secretaries Meeting

• Sub-Group Break Out Sessions

• Sub-Group Joint Sessions (Other Joint Sessions as Required)

• April 27

• Sub-Group Break Out Sessions

• Sub-Group Joint Sessions (Other Joint Sessions as Required)

• April 28:

• Sub-Group Reports (including Sub-group Product Outline Tracking)

• Closing Plenary Session (Other Business, Date and Place of Next Meeting, Meeting Evaluation, Adjourn)

• Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 21, 2006.
Francisco Estrada, C.,
RTCA Advisory Committee.

[FR Doc. 06-3110 Filed 3-30-06; 8:45 am]

BILLING CODE 4910-13-M